DEPARTMENT OF VETERANS AFFAIRS

[OMB Control No. 2900-0342]

Agency Information Collection Activity Under OMB Review: Application and Training Agreement for Apprenticeship and On-the-Job Training Programs

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0342.”

FOR FURTHER INFORMATION CONTACT: Maribel Aponte, Office of Enterprise and Integration, Data Governance Analytics (008), 810 Vermont Ave. NW, Washington, DC 20420, (202) 266-4688 or email Maribel.aponte@va.gov. Please refer to “OMB Control No. 2900-0342 in any correspondence.

SUPPLEMENTARY INFORMATION:

Authority: 10 U.S.C. 16131(d), 16136, and section 510 of chapter 31, 38 U.S.C. 3034(a)(1), 3241(a)(1), 3323(a), 3534(a), 3671, 3672, 3687(a), 38 CFR 21.4150(c), 21.4261(b) and (c), 21.5250(a), 21.7220(a), 21.7720, and Section 903 of Pub. L. 96-342.

Title: Application and Training Agreement for Apprenticeship and On-the-Job Training Programs, VA Forms 22-8864 and 22-8865.

OMB Control Number: 2900-0342.

Type of Review: Revision of a currently approved collection.

Abstract: The Training Agreement, VA Form 22-8864 is no longer being submitted to VA, therefore it no longer needs an OMB approval. VA mostly requires employers with OJT or Apprenticeship programs approved for VA benefits to provide a training agreement to prospective Veterans using VA benefits while training with their company. The 22-8864 has always been an option for these employers to use if they didn't have their own training agreement or use one from their state department of labor. Employers used to submit a copy of the VA Form 22-8864 or their own as a condition of the Veteran receiving VA benefits. The employer is still required to provide a training agreement to their trainees, but VA no longer collects it as a condition of paying EDU benefits.

The Employer's Application to Provide Job Training, VA Form 22-8865 (or the equivalent tool provided by the SAAs) is used to ensure that training programs meet the statutory and regulatory requirements for approval.

An agency may not conduct or sponsor, and a person is not required to respond to a collection of information unless it displays a currently valid OMB control number. The Federal Register Notice with a 60-day comment period soliciting comments on this collection of information was published at 88 FR 76278 on Monday, November 6, 2023, pages 76278 and 76279.

Affected Public: Individuals and Households.

Estimated Annual Burden: 1,710 hours.

Estimated Average Burden Time per Respondent: 90 minutes.

Frequency of Response: Once.

Estimated Number of Respondents: 1,140.

By direction of the Secretary.
Maribel Aponte,
VA PRA Clearance Officer, Office of Enterprise and Integration, Data Governance Analytics, Department of Veterans Affairs.

[FR Doc. 2024-00816 Filed 1-17-24; 8:45 am]

BILLING CODE 8320-01-P